DEPARTMENT OF THE INTERIOR

National Park Service

[NPS-WASO-NAGPRA-NPS0027084; PPWOCRADN0-PCU00RP14.R50000]

Notice of Inventory Completion: Robert S. Peabody Museum of Archaeology, Andover, MA; Correction

AGENCY: National Park Service, Interior.

ACTION: Notice; correction.

SUMMARY: The Robert S. Peabody Institute of Archaeology (formerly the Robert S. Peabody Museum of Archaeology) has corrected an inventory of human remains and associated funerary objects, published in a Notice of Inventory Completion in the Federal Register on September 13, 2005. This notice corrects the minimum number of individuals and the number of associated funerary objects. Lineal descendants or representatives of any Indian Tribe or Native Hawaiian organization not identified in this notice that wish to request transfer of control of these human remains and associated funerary objects should submit a written request to the Robert S. Peabody Institute of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Institute of Archaeology at the address in this notice by January 22, 2019.

ADDRESSES: Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the correction of an inventory of human remains and associated funerary objects under the control of the Robert S. Peabody Institute of Archaeology, Andover, MA. The human remains and associated funerary objects were removed from the Etowah site, Bartow County, GA and Little Egypt site, Murray County, GA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of human remains and associated funerary objects published in a Notice of Inventory Completion in the Federal Register (70 FR 54075-54076, September 13, 2005). During a re-inventory inconsistencies in the original count of both the minimum number of individuals and associated funerary objects were identified. One individual had been counted twice; an additional individual was identified; and objects associated with the additional individual, which had previously been identified as unassociated funerary objects, were now designated associated funerary objects. Confusion regarding which individuals were from Etowah versus Little Egypt also was resolved with the re-inventory. Additionally, the re-inventory correlated original ledger book entries with cataloged and re-cataloged objects, thus identifying previously unknown burial associations. Finally, many associated funerary objects that were misidentified or miscounted in the original inventory (likely due to attempts to count the large numbers of shell beads) were corrected, identified and counted. Transfer of control of the items in this correction notice has not occurred.

Correction

In the Federal Register (70 FR 54075, September 13, 2005), column 2, paragraph 4, sentence 1 is corrected by substituting the following sentence:

Between 1925 and 1928, human remains representing a minimum of 94 individuals were removed from the Etowah site, Bartow County, GA, by Warren King Moorehead of the Robert S. Peabody Museum of Archaeology.

In the Federal Register (70 FR 54075, September 13, 2005), column 2, paragraph 4, sentence 3 is corrected by substituting the following sentence:

The 21,638 associated funerary objects are 34 animal bone fragments and fragment lots; one basketry fragment with clay matrix lot; three burnt clay, ceramic sherds, and animal bones in lot; one ceramic bead; two ceramic elbow pipes, one ceramic basket- or canoe-shaped pipe; one ceramic handle; 21 ceramic sherds; eight ceramic vessels; one lot of charcoal and soil; one concretion; two fragments of a copper axe with wooden handle; one copper covered wooden top knot, serpent shaped; two copper disks; 680 copper fragments, including wood fragments, copper bilobed arrow ornament, mica, adhered shell beads, textile and matting fragments, animal bone; 90 copper headdress, hair ornaments and fragments; 69 copper repousse plates and fragments; three fragments of daub and fire-hardened soil; 175 freshwater pearl beads; 56 freshwater periwinkle shells; seven freshwater shells and fragments; one fur fragment with copper staining; four galena crystals; one bear canine; one kaolin core with copper; one lot of kaolin, bark, animal bone fragments, mica, soil, and ceramic sherds; four large flint bifaces or swords; 11 chipped stone projectile points; one ground stone tool fragment; three leather fragments; one limestone spatulate celt; one lump of mineral ore; 108 matting fragments, including copper stained matting, textiles, and adhered shell beads; 83 mica fragments, some with copper stained matrix; 405 miscellaneous shells and small shells; 11 modified animal bone fragments; one quartz preform; 19,352 shell beads, including diverse sizes and shapes (round, ovoid, tubular, disc, barrel, elongated, irregular), as well as mixed lots of shell beads, freshwater pearl beads, Olivella and Marginella shell beads, soil matrix, ceramic sherds, as well as copper stained shell beads, and fragments and deteriorated beads; two rough shell disks; 12 shell gorgets and gorget fragments; 166 small stones; three soil samples; 10 pieces of wood and animal bone mixed with soil in lot; five stone celts and fragments; one stone discoidal; 10 textile fragments, including some mixed lots with wood, copper fragments, and shell beads; nine tortoise shell strips or bands; one unmodified horse conch shell; six whelk shell cup fragments; 22 whelk shell fragments; two whelk shell columella ornaments and fragments; 237 wood fragments, and mixed lots of wood with copper staining, mica, and soil; one worked stone fragment; two large Atlantic cockle shells; and one “puffball” fungus.

In the Federal Register (70 FR 54076, September 13, 2005), column 1, paragraph 1, sentence 1 is corrected by substituting the following sentence:

Between 1927 and 1928, human remains representing a minimum of 10 individuals were removed from the Little Egypt site in Murray County, GA, by Warren King Moorehead of the Robert S. Peabody Museum of Archaeology.

In the Federal Register (70 FR 54076, September 13, 2005), column 1, paragraph 1, sentence 4 is corrected by substituting the following sentence:

The 43 associated funerary objects are six miscellaneous shells and small shells; 18 shell beads; two shell gorgets; five ceramic vessels; two whelk shell ornaments; and 10 shell ornaments and fragments.

In the Federal Register (70 FR 54076, September 13, 2005), column 2, paragraph 1, sentence 2 is corrected by substituting the following sentence:

Officials of the Robert S. Peabody Museum of Archaeology also have determined that, pursuant to 25 U.S.C. 3001 (3)(A), the 21,681 objects described above are reasonably believed to have been placed with or near individual human remains at the time of death or later as part of a death rite or ceremony.

Additional Requestors and Disposition

Lineal descendants or representatives of any Indian tribe or Native Hawaiian organization not identified in this notice that wish to request transfer of control of these human remains and associated funerary objects should submit a written request with information in support of the request to Ryan Wheeler, Robert S. Peabody Institute of Archaeology, Phillips Academy, 180 Main Street, Andover, MA 01810, telephone (978) 749-4490, email rwheeler@andover.edu, by January 22, 2019. After that date, if no additional requestors have come forward, transfer of control of the human remains and associated funerary objects to the Alabama-Quassarte Tribal Town; Kialegee Tribal Town; Poarch Band of Creeks (previously listed as the Poarch Band of Creek Indians of Alabama); The Muscogee (Creek) Nation; and the Thlopthlocco Tribal Town (hereafter referred to as “The Tribes”) may proceed.

The Robert S. Peabody Institute of Archaeology is responsible for notifying The Tribes that this notice has been published.

Dated: November 28, 2018.
Melanie O'Brien,
Manager, National NAGPRA Program.

[FR Doc. 2018-27709 Filed 12-20-18; 8:45 am]

BILLING CODE 4312-52-P